DEPARTMENT OF LABOR

Employment and Training Administration

[TA-W-73,210; TA-W-73,210A]

Metlife Moosic, PA, Metlife Clarks Summit, PA; Notice of Affirmative Determination Regarding Application for Reconsideration

By application dated August 2, 2010, the petitioners requested administrative reconsideration of the negative determination regarding workers' eligibility to apply for Trade Adjustment Assistance (TAA) applicable to workers and former workers of the subject firm. The determination was issued on July 14, 2010, and the Department's Notice of Determination was published in the Federal Register on August 2, 2010 (75 FR 45163).

The initial investigation resulted in a negative determination based on the findings that there was no increase in imports or acquisition from a foreign country of software testing and quality assurance services by the workers' firm, and that the workers' firm did not produce an article or supply a service that was used by a firm with workers eligible to apply for Trade Adjustment Assistance (TAA) in the production of an article or supply of a service that was the basis for TAA-certification.

In the request for reconsideration, the petitioners provided additional information alleging the procurement by the subject firm from foreign sources of services like and directly competitive with those produced by the petitioning workers.

The Department has carefully reviewed the request for reconsideration and the existing record, and has determined that the Department will conduct further investigation to determine if the workers meet the eligibility requirements of the Trade Act of 1974, as amended.

Conclusion

After careful review of the application, I conclude that the claim is of sufficient weight to justify reconsideration of the U.S. Department of Labor's prior decision. The application is, therefore, granted.

Signed at Washington, DC, this 13th day of August, 2010.
Del Min Amy Chen,
Certifying Officer, Office of Trade Adjustment Assistance.

[FR Doc. 2010-28488 Filed 11-10-10; 8:45 am]

BILLING CODE 4510-FN-P